FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
CONNECTICUT
Cheshire (Town), New Haven (FEMA Docket No. D-7512)
Judd Brook:
At West Johnson Avenue | *137
Approximately 600 feet upstream of Interstate 84 | *140
Maps available for inspection at the Town Planning Department, Town Hall, 84 South Main Street, Cheshire, Connecticut.
Southington (Town), Hartford County (FEMA Docket No. D-7512)
Judd Brook:
Approximately 75 feet upstream of corporate limits | *139
At confluence of East Branch Judd Brook and Humiston Brook | *144
Humiston Brook:
At confluence of Judd Brook and East Branch Judd Brook | *144
Approximately 50 feet downstream of Marion Avenue | *166
East Branch Judd Brook:
At confluence of Judd Brook and Humiston Brook | *144
Approximately 1,940 feet upstream of Marion Avenue | *185
Maps available for inspection at the Planning and Zoning Department, 75 Main Street, Southington, Connecticut.
FLORIDA
Bay County (Unincorporated Areas) (FEMA Docket No. D-7514)
Gulf of Mexico:
Approximately 500 feet southwest of the intersection of Paridiso Place and Miracle Strip Parkway | *16
Approximately 1,100 feet southwest of Salt Creek crossing of U.S. Route 98 | *8
East Bay:
At Farndale Bayou shoreline crossing of Tyndall County Line Road | *6
Approximately 500 feet west of the Hamilton Road extended | *10
St. Andrew Bay:
Approximately 500 feet east of the intersection of Delwood Beach Road and Delwood Drive | *12
Approximately 500 feet west of the intersection of Sabre Drive and Delta Avenue | *8
North Bay:
Approximately 500 feet west of the intersection of 27th Street and Mound Avenue | *11
Approximately 750 feet north of the intersection of North Shore Road and Goose Bayou Road | *7
Callaway Creek:
At State Route 22 | *7
Approximately 0.8 mile upstream of State Route 22 | *7
Callaway Bayou:
Approximately 200 feet south of intersection of Colonial Road and Coleridge Drive | *7
Approximately 1,600 feet south of intersection of Colonial Road and Coleridge Drive | *10
Watson Bayou Tributary:
Approximately 200 feet southwest of intersection of Cherry Street and Everitt Avenue | *8
St. Andrew Sound:
Approximately 4,000 feet south of intersection of Interstate 98 and Unnamed Road | *11
Approximately 2,000 feet south of intersection of Interstate 98 and Unnamed Road | *13
Maps available for inspection at the Bay County Builders Services Division, 640 Mulberry Avenue, Panama City, Florida.
Callaway (City), Bay County (FEMA Docket No. D-7524)
East Bay:
Approximately 0.7 mile east of the intersection of South Berthe Avenue and Wallace Road | *11
Approximately 1,000 feet southeast of intersection of South Berthe Avenue and Wallace Road | *7
Callaway Bayou:
Approximately 0.7 mile east of the intersection of South Berthe Avenue and Wallace Road | *11
Approximately 500 feet southeast of intersection of Winonast and Beulah Avenue | *7
Callaway Creek:
At State Route 22 | *7
Approximately 0.6 mile upstream of State Route 22 | *7
Pitts Bayou:
West side of U.S. Route 98 (Tyndall Parkway) at Pitts Bayou Crossing | *8
Maps available for inspection at the Department of Public Works, 324 South Berthe Avenue, Callaway, Florida.
Lynn Haven (City), Bay County (FEMA Docket No. D-7524)
North Bay:
At the intersection of West 19th Street and Maryland Avenue | *7
Shoreline at Little Oyster Bar Point | *11
At intersection of New Jersey Avenue and 11th Street | *7
Maps available for inspection at the Lynn Haven City Hall, 825 Ohio Avenue, Lynn Haven, Florida.
Martin County (Unincorporated Areas) (FEMA Docket No. D-7514)
Bessey Creek:
Approximately 1,100 feet downstream of Andrews Drive | *8
At 84th Avenue | *26
Danforth Creek:
At Martin Downs Boulevard | *8
Approximately 1,600 feet upstream of State Route 76A | *23
South Fork St. Lucie River:
Approximately 2.1 miles upstream of State Route 76 | *8
Approximately 4.9 miles upstream of State Route 76 | *10
Roebuck Creek:
Approximately 700 feet downstream of Buckskin Trail | *8
Approximately 0.78 miles upstream of State Route 76A | *19
Manatee Creek:
State Route A1A | *9
Approximately 1,800 feet upstream of Twin Lakes Drive | *15
East Fork Creek:
Approximaely 400 feet upstream of Cove Road | *9
Approximately 100 feet upstream of Mariner Sands Drive | *15
Atlantic Ocean:
Approximately 600 feet east of the intersection of A1A and 42nd Street | *14
Approximately 1.1 miles northeast of intersection of Golfhouse Drive and Hill Terrace | *6
Maps available for inspection at the Martin County Engineer's Office, 2401 South East Monterey Road, Stuart, Florida.
Mexico Beach (City). Bay County (FEMA Docket No. D-7524)
Gulf of Mexico:
At the intersection of 38th Street and 36th Street | *8
Approximately 175 feet south of the intersection of 16th Street and U.S. Highway 98 | *16
Maps available for inspection at the Mexico Beach City Hall, 118 North 14th Street, Mexico Beach, Florida.
Panama City (City). Bay County (FEMA Docket No. D-7514)
Watson Bayou:
Approximately 300 feet west of the intersection of Harris Avenue and 11th Street | *8
Approximately 1,600 feet northeast of the intersection of Hollis Avenue and Texas Street | *11
St. Andrew Bay:
Approximately 400 feet north of the intersection of Allen Avenue and Linda Avenue | *8
Approximately 125 feet south of the intersection of Fairland Avenue and Beach Drive | *12
North Bay:
Approximately 100 feet west of the intersection of Frankfort Avenue and Calhoun Avenue | *7
Approximately 650 feet northwest of the intersection of Harbor Place and Harbor Road | *11
Maps available for inspection at the City Hall, City of Panama City, 9 Harrison Avenue, Panama City, Florida.
Panama City Beach (City), Bay County (FEMA Docket No. D-7514)
Gulf of Mexico:
Approximately 400 feet west of the intersection of Crane Street and Miracle Strip Parkway | *16
Approximately 200 feet west of the intersection of Habanero Avenue and Lullwater Drive East | *8
Maps available for inspection at the Panama City Beach City Hall, 110 South Arnold Road, Panama City Beach, Florida
Parker (City), Bay County (FEMA Docket No. D-7514)
East Bay:
Approximately 2,500 feet southeast of the intersection of Fleming Street and Interstate 98 | *10
Approximately 300 feet east of the intersection of Bay Avenue and Oak Shore Drive | *8
St. Andrew Bay:
Approximately 800 feet west of intersection of Sunset Drive and Cedar Avenue | *11
At the intersection of East Street and Fourth Street | *8
Maps available for inspection at the Parker City Hall, 1001 West Parker, Parker, Florida.
Springfield (City), Bay County (FEMA Docket No. D-7514)
Watson Bayou Tributary:
Approximately 300 feet south of the intersection of East 2nd St and Springfield Avenue | *8
Maps available for inspection at the Springfield City Hall, 3529 East Third Street, Springfield, Florida.
GEORGIA
White County (Unincorporated Areas) (FEMA Docket No. D-7514)
Blue Creek:
Approximately 300 feet upstream of the confluence with Chattahoochee River | *1,268
Approximately 2.5 miles upstream of Duncan Bridge Road | *1,372
Brasstown Creek:
Approximately 800 feet upstream of the confluence with Chattahoochee River | *1,271
Approximately 3.2 miles upstream of Roy Powers Road | *1,391
Brasstown Creek Tributary No. 1:
At confluence with Brasstown Creek | *1,322
Approximately 1.3 miles upstream of the confluence with Brasstown Creek | *1,386
Brasstown Creek Tributary No. 2:
At the confluence with Brasstown Creek | *1,341
Approximately 0.9 mile upstream of the confluence with Brasstown Creek | *1,394
White Creek:
Approximately 200 feet upstream of the confluence with Chattahoochee River | *1,133
At State Route 254 | *1,317
Chattahoochee River:
Approximately 1.7 miles downstream of State Route 75 | *1,390
Approximately 1.5 miles downstream of State Route 75 | *1,394
Maps available for inspection at the White County Planning Commission Director's Office, 59 South Main Street, Cleveland, Georgia.
MAINE
Orrington (Town), Penobscot County (FEMA Docket No. D-7522)
Sedgeunkedunk Stream:
A point approximately 100 feet downstream of Orrington corporate limits | *42
A point approximately 420 feet upstream of Fields Pond Road bridge | *102
Penobscot River:
At downstream corporate limits | *11
At upstream corporate limits | *16
Brewer Lake:
Entire shoreline within community | *112
Maps available for inspection at the Orrington Town Hall, 29 Center Drive, Orrington, Maine.
MASSACHUSETTS
Malden (City), Middlesex County (FEMA Docket No. D-7516)
Town Line Brook:
Approximately 1,000 feet downstream of corporate limits | *9
Approximately 500 feet upstream of Lynn Street | *9
Linden Brook:
Approximately 250 feet downstream of corporate limits | *9
On downstream side of Beach Street | *9
Maps available for inspection at the Malden Engineering Office, Malden City Hall, 200 Pleasant Street, Malden, Massachusetts.
Revere (City), Suffolk County (FEMA Docket No. D-7516)
Town Line Brook:
Approximately 100 feet east of intersection of Washington Avenue and Squire Road | *9
Linden Brook:
Approximately 180 feet south of the intersection of Lynn Street and Adamski Memorial Highway | *9
Maps available for inspection at the Revere Planning Office, 281 Broadway, Revere, Massachusetts.
MISSISSIPPI
Gulfport (City), Harrison County (FEMA Docket No. D-7524)
Flat Branch:
Approximately 525 feet upstream of Dedeaux Road | *20
Downstream side of U.S. Highway 49 | *50
Maps available for inspection at the Gulfport City Hall, 2309 15th Street, Gulfport, Mississippi.
NEW JERSEY
Watchung (Borough), Somerset County (FEMA Docket No. D-7255)
Stony Brook:
Approximately 40 feet downstream of Johnston Drive | *115
Approximately 150 feet upstream of Somerset Street | *187
East Branch Stony Brook:
Approximately 675 feet downstream of Valley Drive | *213
Approximately 20 feet downstream of Meadowlark Drive | *237
Green Brook:
At Raymond Avenue | *128
Approximately 1,650 feet upstream of Apple Tree Road | *405
Maps available for inspection at the Watchung Borough Hall, 15 Mountain Boulevard, Watchung, New Jersey.
NEW YORK
Corning (City), Steuben County (FEMA Docket No. D-7516)
Post Creek:
Approximately 0.52 mile upstream of the confluence with Chemung River | *924
Approximately 1.55 miles upstream of the confluence with Chemung River | *958
Maps available for inspection at the Corning Code Enforcement Office, 7 Nasser Civic Center, Corning, New York.
Corning (Town), Steuben County (FEMA Docket No. D-7506)
Post Creek:
Approximately 150 feet downstream of downstream corporate limits | *956
Approximately 1,850 feet upstream of downstream corporate limits | *967
Maps available for inspection at the Corning Town Hall, 20 South Maple Street, Corning, New York.
Hamilton (Town), Madison County (FEMA Docket No. D-7504)
Sangerfield River:
From downstream corporate limits | *1,075
Approximately 150 feet upstream of upstream corporate limits | *1,186
Maps available for inspection at the Hamilton Town Hall, 16 Broad Street, Hamilton, New York.
Hamilton (Village), Madison County (FEMA Docket No. D-7516)
Canal Tributary:
At confluence with Payne Brook Tributary | *1,110
At the upstream corporate limits | *1,116
Payne Brook:
Approximately 1,360 feet downstream of College Street | *1,101
At upstream corporate limits | *1,125
Payne Brook Tributary:
At the confluence with Payne Brook | *1,104
Approximately 80 feet upstream of Eaton Street | *1,119
Maps available for inspection at the Hamilton Village Hall, 3 Broad Street, Hamilton, New York.
Lisle (Town), Broome County (FEMA Docket No. D-7514)
Dudley Creek:
Approximately 650 feet downstream of Owen Hill Road | *1,044
At Popple Hill Road | *1,097
Culver Creek:
At the confluence with Dudley Creek | *1,075
At Hunts Corners Road | *1,106
Tioughnioga River:
Approximately 3.12 miles downstream of Main Street | *979
A point approximately 1.19 miles upstream of Main Street | *1,003
Maps available for inspection at the Lisle Town Office, 9234 NYS Route 79, Lisle, New York.
Lockport (Town), Niagara County (FEMA Docket No. D-7516)
Eighteen Mile Creek:
At downstream corporate limits | *356
Approximately 130 feet upstream of Stone Road | *365
East Tributary to Eighteen Mile Creek:
At downstream corporate limits | *360
Approximately 1 mile upstream of State Route 104 | *363
West Tributary to Eighteen Mile Creek:
At confluence with Eighteen Mile Creek | *359
At Lockport town line | *384
East Branch to Eighteen Mile Creek:
At downstream corporate limits | *357
Approximately 1,500 feet upstream of upstream corporate limits | *375
Gulf Branch:
At Niagara Street | *472
Just downstream of Upper Mountain Road | *584
Gulf Tributary:
At confluence with Gulf Branch | *497
Approximately 2,250 feet upstream of confluence with Gulf Branch | *514
Tonawanda Creek:
Approximately 1 mile upstream of Rapids Road | *591
At upstream corporate limits | *591
Donner Creek:
At the downstream corporate limits | *606
Approximately 1,660 feet upstream of Hamm Road | *618
Maps available for inspection at the Lockport Town Hall, 6560 Dysinger Road, Lockport, New York.
Tusten (Town), Sullivan County (FEMA Docket No. D-7514)
Delaware River:
At the downstream corporate limits | *629
Approximately 2.03 miles downstream of the CONRAIL bridge | *665
Maps available for inspection at the Tusten Town Hall, 210 Bridge Street, Narrowsburg, New York.
VIRGINIA
Franklin (City), Independent City (FEMA Docket No. D-7514)
Blackwater River:
At downstream corporate limits | *17
At upstream corporate limits | *22
Maps available for inspection at the Franklin City Office, 207 West Second Avenue, Franklin, Virginia.
Suffolk (City), Independent City (FEMA Docket No. D-7514)
Blackwater River:
At downstream corporate limits | *15
At upstream corporate limits | *16
Maps available for inspection at the Suffolk City Manager's Office, 441 Market Street, Suffolk, Virginia.
Isle of Wight County (Unincorporated Areas) (FEMA Docket No. D-7514)
Blackwater River:
Approximately 3.7 miles downstream of CSX Transportation | *16
Approximately 1.3 miles upstream of Broadwater Road (State Route 629) | *36
Maps available for inspection at the Isle of Wight Planning and Zoning Department, 17140 Monument Circle, Suite 201, Isle of Wight, Virginia.
WISCONSIN
Bay City (Village), Pierce County (FEMA Docket No. D-7516)
Mississippi River (Lake Pepin):
Entire shoreline within community | *682
Bay City Creek:
Approximately 520 feet downstream of CSX Transportation | *683
Approximately 900 feet upstream of Great River Road | *690
Maps available for inspection at the Bay City Village Hall, W6371 Main Street, Bay City, Wisconsin.
Chippewa Falls (City), Chippewa County (FEMA Docket No. D-7516)
Duncan Creek:
Upstream side of Bridge Street | *827
Approximately 0.72 mile upstream of Glen Loch Dam | *898
Maps available for inspection at the Chippewa Falls City Hall, 30 West Central Street, Chippewa Falls, Wisconsin.

(Catalog of Federal Domestic Assistance No. 83.100, “Flood Insurance.”)

Dated: May 15, 2002.
Robert F. Shea,
Acting Administrator, Federal Insurance and Mitigation Administration.

[FR Doc. 02-12653 Filed 5-20-02; 8:45 am]

BILLING CODE 6718-04-P